DEPARTMENT OF HOUSING AND URBAN DEVELOPMENT

[Docket No. FR-4837-D-39]

Amendments to Redelegations of Authority Concerning Office of the General Counsel Field and Regional Counsel

AGENCY: Office of the General Counsel, HUD.

ACTION: Notice.

SUMMARY: In accordance with the amendment made by this notice, all redelegations of authority to Field Assistant General Counsel, currently in effect, are now considered reference to the Regional Counsel for the relevant HUD geographical area.

EFFECTIVE DATE: June 17, 2003.

FOR FURTHER INFORMATION CONTACT: Bessie C. Henderson, Assistant General Counsel for Field and Management Operations Staff, Department of Housing and Urban Development, Room 10241, 451 Seventh Street, SW., Washington, DC 20410-0500, telephone: (202) 708-4188. (This is not a toll-free number.) For those needing assistance, this number may be accessed through TTY by calling the toll-free Federal Information Relay Service number at 1-800-877-8339.

SUPPLEMENTARY INFORMATION: By a notice published on March 26, 2002 (67 FR 13790), the title of Field Assistant General Counsel was changed to the title of Regional Counsel and HUD Regional Directors were provided the authority necessary to manage programs and resources located in HUD regional and field offices nationwide.

The title of Assistant General Counsel for Region I has been changed to Regional Counsel for Region I (Boston, MA); the title of Assistant General Counsel for Region II has been changed to Regional Counsel for Region II (New York, NY); the title of Assistant General Counsel for Region III has been changed to Regional Counsel for Region III (Philadelphia, PA); the title of Assistant General Counsel for Region IV has been changed to Regional Counsel for Region IV (Atlanta, GA); the title of Assistant General Counsel for Region V has been changed to Regional Counsel for Region V (Chicago, IL); the title of Assistant General Counsel for Region VI has been changed to Regional Counsel for Region VI (Ft. Worth, TX); the title of Assistant General Counsel for Region VII has been changed to Regional Counsel for Region VII (Kansas City, KS); the title of Assistant General Counsel for Region VIII has been changed to Regional Counsel for Region VIII (Denver, CO); the title of Assistant General Counsel for Region IX has been changed to Regional Counsel for Region IX (San Francisco, CA); and the title of Assistant General Counsel for Region X has been changed to Regional Counsel for Region X (Seattle, WA).

All redelegations of authority currently in effect for the Office of the General Counsel are amended to read Regional Counsel for the relevant geographic area.

Authority: Section 7(d) of the Department of Housing and Urban Development Act (42 U.S.C. 3535(d)).

Dated: June 17, 2003.
Richard A. Hauser,
General Counsel.

[FR Doc. 03-16247 Filed 6-26-03; 8:45 am]

BILLING CODE 4210-67-P